DEPARTMENT OF STATE

[Public Notice 3704]

Bureau of Educational and Cultural Affairs Request for Grant Proposals: Israeli-Arab Scholarship Program

SUMMARY: The Office of Academic Exchange Programs of the Bureau of Educational and Cultural Affairs announces an open competition for an assistance award for the Israeli-Arab Scholarship Program. Public and private non-profit organizations with at least four years of experience in conducting international exchange programs and meeting the provisions described in IRS regulation 26 CFR 1.501(c) may submit proposals to provide administrative and program support services for the Israeli-Arab Scholarship Program.

Program Information

Overview

The Israeli-Arab Scholarship Program (IASP) is a congressionally mandated and endowed program. The Israeli-Arab Scholarship Program provides an opportunity for highly qualified Israeli-Arab graduate students to attend institutions of higher education in the U.S., providing them both a quality graduate education and an opportunity to experience American democracy and society.

The Bureau's Office of Academic Exchange Programs and the Public Affairs Section (PAS) of the U.S. Embassy in Tel Aviv, Israel, jointly administer the Israeli-Arab Scholarship Program. Applicants are recruited, screened, and selected by PAS Tel Aviv with the assistance of a panel of host-country academics. The Office of Academic Exchange Programs is responsible for allocation of funding and policy administration. The successful applicant will have responsibility for program administration, which involves performance of services in the following broad categories: Program Planning and Management; Recruitment/Selection Support Services; Placement and Budgeting Services; Supervision and Support Services; Special Programs Management; Fiscal Management; and Program Projection, Reporting and Evaluation Services.

Guidelines

Program administration activities should cover the time period October 1, 2001 through December 31, 2003. The expected grantee caseload for fiscal year 2002 (FY 2002) is projected to be up to four (4) new students for academic year 2002-2003. Applicants for this award should submit a program proposal with budget projections for the first program year only. Prior year renewal grants will be administered by the organization currently administering the program. Programs must comply with J-1 visa regulations. Please refer to Solicitation Package for further information.

Budget Guidelines

The Bureau anticipates awarding one grant up to the amount of $150,000 to support program and administrative costs required to implement this program. The Bureau encourages applicants to provide maximum levels of cost-sharing and funding from private sources in support of its programs. Proposals that contain administrative expenses to 20% of the overall budget will be deemed more competitive.

Applicants must submit a comprehensive budget for the entire program. There must be a summary budget as well as breakdowns reflecting both administrative and program budgets. Applicants may provide separate sub-budgets for each program component, phase, location, or activity to provide clarification.

Please refer to the Solicitation Package for complete budget guidelines and formatting instructions.

Announcement Title and Number: All correspondence with the Bureau concerning this RFGP should reference the above title and number ECA/A/E/NEA-IASP02.

FOR FURTHER INFORMATION CONTACT: Alice A. Armitage, Office of Academic Exchange Programs, ECA/A/E/NEA-SA, Room 212, U.S. Department of State, 301 4th Street, SW., Washington, DC 20547, phone: (202) 619-6863, fax: (202) 205-2466, email: aarmitag@pd.state.gov to request a Solicitation Package. The Solicitation Package contains detailed award criteria, required application forms, specific budget instructions, and standard guidelines for proposal preparation. Please specify Bureau Program Officer Alice A. Armitage on all other inquiries and correspondence. Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs.

Please read all information before downloading.

Deadline for Proposals

All proposal copies must be received at the Bureau of Educational and Cultural Affairs by 5 p.m. Washington, DC time on Thursday, July 19, 2001. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/A/E/NEA-IASP02, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package.

The program office, as well as the Public Diplomacy section overseas, where appropriate, will review all eligible proposals. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content(orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Institutional Network: Proposals should include proof of an existing network with U.S. academic and international exchange community or demonstrated potential to develop such a network.

9. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

10. Cost-effectiveness: The overhead and administrative components of the proposal, including salaries and honoraria, should be kept as low as possible. All other items should be necessary and appropriate.

11. Cost-sharing: Proposals should maximize cost-sharing through other private sector support as well as institutional direct funding contributions.

Authority

Overall grant making authority for this program is contained in Public Law 102-138, the “Foreign Relations Authorization Act, Fiscal Years 1992 and 1993.” The purpose of the legislation is to establish “a program of scholarships for Israeli-Arabs to attend institutions of higher education in the United States.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 13, 2001.
Helena Kane Finn,
Acting Assistant Secretary for Educational and Cultural, Affairs, U.S. Department of State.

[FR Doc. 01-15543 Filed 6-20-01; 8:45 am]

BILLING CODE 4710-05-P